DEPARTMENT OF STATE

[Public Notice: 10976]

Global Magnitsky Human Rights Accountability Act Annual Report

SUMMARY: This notice contains the text of the report required by the Global Magnitsky Human Rights Accountability Act, as submitted by the Secretary of State pursuant to Executive Order 13818.

FOR FURTHER INFORMATION CONTACT: Bob Viglietta, Email: VigliettaR@state.gov, Phone: (202) 647-6526

SUPPLEMENTARY INFORMATION: On December 10, 2019, the Secretary of State approved the following report pursuant to Executive Order 13818 of December 20, 2017, “Executive Order Blocking the Property of Persons Involved in Serious Human Rights Abuse or Corruption” (E.O. 13818), which builds on and implements the Global Magnitsky Human Rights Accountability Act (Pub. L. 114-328, Title XII, Subtitle F) (“the Act”). The text of the report follows:

Pursuant to Section 1264 of the Global Magnitsky Human Rights Accountability Act of 2016 (Pub. L. 114-328, Title XII, Subtitle F), and in accordance with E.O. 13818, “Executive Order Blocking the Property of Persons Involved in Serious Human Rights Abuse or Corruption” the Secretary of State, in consultation with the Secretary of the Treasury, submits this report to detail the Administration's implementation of the Act in 2019.

In 2019, the United States took significant action under the Global Magnitsky sanctions program (“Global Magnitsky”). As of December 10, 2019, the United States has designated 198 foreign persons (individuals and entities) under E.O. 13818. This sanctions program, which targets human rights abusers, corrupt actors, and their enablers, represents the best of the United States' values by taking impactful steps to protect and promote human rights and combat corruption around the world. Through the Act and E.O. 13818, the United States has sought to disrupt and deter serious human rights abuse and corruption abroad; promote accountability for those who act with impunity; and protect, promote, and enforce longstanding international norms alongside our partners and allies.

As the President outlined in his National Security Strategy (NSS), liberty, free enterprise, equal justice under the law and the dignity of every human life are values that represent who we are as a people. Further, the NSS states we support with our words and actions those who live under oppressive regimes and seek freedom, individual dignity, and the rule of law. Through Global Magnitsky, the Administration is taking action to execute the President's vision as described in the NSS.

Actions taken in 2019 demonstrated the reach, flexibility, and broad scope of Global Magnitsky. The United States responded to corrupt actors in South Sudan involved in draining the country of critical resources; targeted members of a significant corruption network responsible for bribery and misappropriation of assets in South Africa; imposed consequences on a former Ugandan Police Inspector General for corruption and leading an organization engaged in human rights abuses; promoted accountability for serious human rights abuse and corruption among Iraqi militia and former governors; addressed actions of a former Mexican governor accepting bribes from narcotics trafficking organizations; and clearly demonstrated the resolve of the Administration to leverage this important tool, when appropriate, to target individuals and entities engaging in specified conduct.

When considering financial sanctions under Global Magnitsky, the United States prioritizes actions that are expected to produce a tangible and significant impact on the sanctioned persons and their affiliates, to prompt changes in behavior or disrupt the activities of malign actors. Persons sanctioned pursuant to this authority appear on the Office of Foreign Assets Control's (OFAC) List of Specially Designated Nationals and Blocked Persons (SDN List). As a result of these actions, any property or interests in property of the sanctioned persons within or transiting U.S. jurisdiction is blocked. Additionally, U.S. persons are generally prohibited from engaging in transactions with blocked persons, including entities 50 percent or more owned by designated persons. The Secretary of the Treasury, in consultation with the Secretary of State and the Attorney General, imposed financial sanctions on the following persons pursuant to Global Magnitsky:

1. Roberto Sandoval Castaneda: Sandoval Castaneda was designated on May 17, 2019, for engaging in an array of corruption activities, such as the misappropriation of state assets and the receipt of bribes from Mexican drug trafficking organizations, including the Cartel de Jalisco Nueva Generacion (CJNG). Sandoval Castaneda has held numerous public offices in his home state of Nayarit, Mexico. During this time, Sandoval Castaneda misappropriated state assets and received bribes from narcotics trafficking organizations, including CJNG, in exchange for information and protection. In a related action, OFAC designated three of Sandoval Castaneda's complicit family members who have acted or purported to act on his behalf by holding his ill-gotten assets in their names: Ana Lilia Lopez Torres (wife), Lidy Alejandra Sandoval Lopez (adult daughter), and Pablo Roberto Sandoval Lopez (adult son).

Four Mexican entities were also designated for being owned or controlled by Sandoval or a designated family member: Bodecarne, S.A. de C.V. (butcher business), Iyari (clothing and accessories store), L-Inmo, S.A. de C.V. (real estate holding company), and Valor y Principio de Dar, A. C. (land-holding foundation).

2. Rayan al-Kildani: Al-Kildani was designated on July 18, 2019, for being responsible for or complicit in, or having directly or indirectly engaged in, serious human rights abuse as the leader of the 50th Brigade, a militia operating in Iraq's Ninewa Plain. In May 2018, a video circulated among Iraqi human rights civil society organizations in which al-Kildani cut off the ear of a handcuffed detainee. The 50th Brigade is reportedly the primary impediment to the return of internally displaced persons to the Ninewa Plain. The 50th Brigade has systematically looted homes in Batnaya, which is struggling to recover from ISIS's brutal rule. The 50th Brigade has reportedly illegally seized and sold agricultural land, and the local population has accused the group of intimidation, extortion, and harassment of women.

3. Waad Qado: Qado, the leader of the 30th Brigade, a militia operating in Iraq's Ninewa Plain, was designated on July 18, 2019, for being a leader or official of an entity that has engaged in, or whose members have engaged in, serious human rights abuse relating to his tenure. The 30th Brigade has extracted money from the population around Bartalla through extortion, illegal arrests, and kidnappings. The 30th Brigade has frequently detained people without warrants, or with fraudulent warrants, and has charged arbitrary customs fees at its checkpoints. Members of the local population allege that the 30th Brigade has been responsible for egregious offenses including physical intimidation, extortion, robbery, kidnapping, and rape.

4. Nawfal Hammadi al-Sultan: Al-Sultan, a former governor of Ninewa Province, Iraq, was designated on July 18, 2019, for being a current or former government official, or a person acting for or on behalf of such an official, who is responsible for or complicit in, or who has directly or indirectly engaged in, corruption. Following a ferry accident in Ninewa's capital, Mosul, that killed nearly 100 people, Iraq's parliament removed al-Sultan from office. Iraqi authorities have issued an arrest warrant for the former governor, who fled shortly after the accident. In a letter to Members of Parliament after the ferry accident, Prime Minister Adel Abdul Mahdi accused al-Sultan of negligence and dereliction of duty and said there was evidence the former governor was misusing funds and abusing his power.

5. Ahmed al-Jubouri: Al-Jubouri is a former governor of Salah al-Din, Iraq, and current Member of Parliament who was designated on July 18, 2019 for being a current or former government official, or a person acting for or on behalf of such an official, who is responsible for or complicit in, or who has directly or indirectly engaged in, corruption. Al-Jubouri was removed as governor and sentenced to prison in July 2017 upon conviction for misusing authority and federal funds and appropriating land for personal use. Al-Jubouri has since been released. Al-Jubouri has been known to protect his personal interests by accommodating Iran-backed proxies that operate outside of state control.

6. Kale Kayihura: Kayihura, the former Inspector General of Police (IGP) of the Ugandan Police Force (UPF), was designated on September 13, 2019, for having been a leader or official of an entity that has engaged in, or whose members have engaged in, serious human rights abuse against Ugandan citizens, as well as for his involvement in corruption. As the IGP for the UPF, Kayihura led individuals from the UPF's Flying Squad Unit, which has engaged in the inhumane treatment of detainees. Detainees also reported that after being subjected to the abuse they were offered significant sums of money if they confessed to their involvement in a crime. In addition, Kayihura has engaged in numerous acts of corruption, including using bribery to strengthen his political position within the Government of Uganda, stealing funds intended for official Ugandan government business, and using another government employee to smuggle illicit goods, including drugs, gold, and wildlife, out of Uganda.

7. Ajay, Atul, and Rajesh Gupta; Salim Essa: The Guptas and Essa were designated on October 10, 2019, for their involvement in corruption in South Africa. The members of this network leveraged overpayments on government contracts, bribery, and other corrupt acts to fund political contributions and influence government actions. Ajay was designated for being the leader of an entity that has engaged in, or whose members have engaged in, corruption. Ajay is the family patriarch who formulated the family's corrupt business strategies and controlled its finances.

Atul has materially assisted, sponsored, or provided financial, material, technological support for, or goods or services to or in support of, an entity that has engaged in, or whose members have engaged in, corruption. Atul is widely known to have overseen the Gupta family's outreach to corrupt government officials.

Rajesh has materially assisted, sponsored, or provided financial, material, technological support for, or goods or services to or in support of, an entity that has engaged in, or whose members have engaged in, corruption. Rajesh cultivated important relationships with the sons of powerful South African politicians and led efforts to pursue business and relationships in a South African province where corruption was rampant. Rajesh attempted to use at least one of those relationships to seek undue influence with additional members of a South African political party.

Essa, a business associate of the Gupta family, has materially assisted, sponsored, or provided financial, material, technological support for, or goods or services to or in support of, an entity that has engaged in, or whose members have engaged in, corruption.

8. Ashraf Seed Ahmed Al-Cardinal: Al-Cardinal was designated on October 11, 2019, for having materially assisted, sponsored, or provided financial, material, or technological support for, or goods or services to or in support of, corruption, largely operating within South Sudan. Five companies owned or controlled by Al-Cardinal were also designated: Alcardinal General Trading Limited, Alcardinal General Trading LLC, Al Cardinal Investments Co. LTD, Alcardinal Petroleum Company limited, and NILETEL.

Sudanese businessman Al-Cardinal has been used by a senior South Sudanese government official as an intermediary to deposit and hold a large amount of funds in a country outside of South Sudan. Further, in early 2019, the South Sudanese government made millions of dollars in payments to a company owned by Al-Cardinal; while the official reason was for the payment for food, the money instead went to senior South Sudanese government officials. Other South Sudanese government officials have expressed dissatisfaction with the massive corruption in the South Sudanese government, noting that although large amounts of money were paid to Al-Cardinal for supplies and provisions, government forces never seemed to be adequately supplied. Separately, a company partially owned by Al-Cardinal has been publicly implicated in the importation of amphibious armored vehicles into South Sudan that gave the Government of South Sudan the ability to extend offensives that included violent attacks on innocent civilians.

9. Kur Ajing Ater: Ajing was designated on October 11, 2019, for having materially assisted, sponsored, or provided financial, material, technological support for, or goods or services to or in support of, an entity that has engaged in, or whose members have engaged in, corruption, largely operating within South Sudan. One company owned or controlled by Ajing was also designated: Lou Trading and Investment Company Limited. Ajing is a South Sudanese businessman who has bribed key officials in the Government of South Sudan in order to maintain influence and access to the South Sudanese oil market. Ajing used these bribes to both curry favor with a senior gatekeeper within the Government of South Sudan and to ensure the silence and compliance of a key government officials. According to public media reports, Ajing received millions of dollars in contracts for the South Sudanese military, including one contract that alone exceeds the total amount budgeted for the military's goods and services for the year by a factor of ten.

10. Qais al-Khazali: Al-Khazali was designated on December 6, 2019, for being a foreign person who is a leader or official of an entity, including any government entity, that has engaged in, or whose members have engaged in serious human rights abuse relating to his tenure. Al-Khazali is Secretary General of the Iran-backed Asa'ib Ahl al-Haq (AAH) militia in Iraq. During the late 2019 protests in many cities in Iraq, AAH has opened fire on and killed protestors. Additionally, Qais and Laith al-Khazali had leading roles in a January 2007 attack on an Iraqi government compound in Karbala. The attack killed five U.S. soldiers and wounded three.

11. Laith al-Khazali: Al-Khazali was designated on December 6, 2019, for being a foreign person who is responsible for, complicit in, or has directly or indirectly engaged in serious human rights abuse. Al-Khazali is a leader of AAH. In late 2015, al-Khazali controlled efforts to remove Sunnis from areas of Diyala Province, including killings to drive Sunnis from the area. Additionally, Qais and Laith al-Khazali had leading roles in a January 2007 attack on an Iraqi government compound in Karbala. The attack killed five U.S. soldiers and wounded three.

12. Husayn Falih `Aziz al-Lami: Al-Lami was designated on December 6, 2019, for being a foreign person who is responsible for, complicit in, or has directly or indirectly engaged in serious human rights abuse. Al-Lami is an Iran-backed militia leader, tasked by other senior militia commanders with suppressing the late 2019 protests in Iraq. Al-Lami directed militia fighters who shot protesters in early October 2019, a time when dozens of protesters were killed.

13. Khamis Farhan Al-Khanjar Al-Issawi: Al-Khanjar was designated on December 6, 2019, for having materially assisted, sponsored, or provided financial, material, or technological support for, or goods or services to or in support of corruption, including the misappropriation of state assets, the expropriation of private assets for personal gain, corruption related to government contracts or the extraction of natural resources, or bribery. Al-Khanjar is an Iraqi businessman and millionaire who enjoys significant power on a regional and international level. According to a former senior Iraqi government official, al-Khanjar's influence has been mostly due to his willingness and ability to use his wealth to bribe others. Al-Khanjar has reportedly planned to spend millions of dollars in payments to Iraqi political figures in order to secure their support.

14. Aivars Lembergs: Lembergs was designated on December 9, 2019, for being a foreign person who is a current or foreign government official responsible for or complicit in, or directly or indirectly engaged in, corruption, including the misappropriation of state assets, the expropriation of private assets for personal gain, corruption related to government contracts or the extraction of natural resources, or bribery. Lembergs has served as the Mayor of Ventspils, Latvia since 1988. From that time, he has been repeatedly accused of money laundering, bribery, and abuse of office. Lembergs controls entities through political parties and corrupt politicians, and systematically exploits those entities and individuals for his own economic gain. Lembergs has used his influence over leadership of political parties to shape government personnel and place certain government officials in positions, as well as to obstruct other government officials from obtaining leadership positions. Additionally, Lembergs has leveraged and corrupted law enforcement officials to protect his interests and subvert politicians whom he otherwise was unable to control.

Additionally, four Latvia-based entities were designated on December 9, 2019, for being owned or controlled by Lembergs: Ventspils Freeport Authority, Ventspils Attistibas Agentura (also known as Ventspils Development Agency), Biznesa Attistibas Asociacija (also known as Business Development Association), and Latvijas Tranzita Biznesa Asociacija (also known as Latvian Transit Business Association).

15. Try Pheap: Pheap was designated on December 9, 2019, for being a foreign person who is a current or former government official who is responsible for or complicit in, or has directly or indirectly engaged in corruption, including the misappropriation of state assets, the expropriation of private assets for personal gain, corruption related to government contracts or the extraction of natural resources, or bribery. Pheap used his vast network inside Cambodia to build a largescale illegal logging consortium that relies on the collusion of Cambodian officials, to include purchasing protection from the government, including military protection, for the movement of his illegal products. The support of these officials makes it difficult for local authorities to take legal action against Pheap.

Additionally, 11 Cambodia-registered entities were designated on December 9, 2019, for being owned or controlled by Pheap: Try Pheap Group CO., Ltd.; M.D.S. Import Export Co., Ltd.; Try Pheap Dry Port Co., Ltd.; Try Pheap Engineering & Construction Co., Ltd.; Try Pheap Grand Royal Co., Ltd.; Try Pheap Import Export Co., Ltd.; Papa Petroleum Co., Ltd.; Try Pheap Property Co. Ltd.; Try Pheap Travel & Tours Co., Ltd.; M D S Thmorda S E Z Co., Ltd.; and Try Pheap Oyadav S E Z Co., Ltd.

16. Kun Kim: Kim was designated on December 9, 2019, for being a foreign person who is a current or former government official who is responsible for or complicit in, or has directly or indirectly engaged in corruption, including the misappropriation of state assets, the expropriation of private assets for personal gain, corruption related to government contracts or the extraction of natural resources, or bribery. Kim was a senior General in the Royal Cambodian Air Force (RCAF) and was instrumental in a development in Koh Kong province and had reaped significant financial benefit from his relationships with a People's Republic of China (PRC) state-owned entity. Kim used RCAF soldiers to intimidate, demolish, and clear-out land sought by the PRC-owned entity. Cambodian elites, like Kim, use their familial networks to create shadow structures to shield ill-gotten assets. In addition to Kim, three members of Kim's family were designated for acting or purporting to act for or on behalf of, directly or indirectly, Kim.

17. King Chandy: Chandy was designated on December 9, 2019, for acting or purporting to act for or on behalf of, directly or indirectly, Kun Kim. Additionally, one entity, K D Rubber Plantation Co., Ltd., is registered in Cambodia and is designated for being owned or controlled by Chandy.

18. Kim Sophary: Sophary was designated on December 9, 2019, for acting or purporting to act for or on behalf of, directly or indirectly, Kun Kim.

Additionally, two entities, Cambo Elite Security Force Co., Ltd. and 7 Makara Phary Co., Ltd., are registered in Cambodia, and are designated for being owned or controlled by Sophary.

19. Kim Phara: Phara was designated on December 9, 2019, for acting or purporting to act for or on behalf of, directly or indirectly, Kun Kim.

Additionally, two entities, Romdoul Capital Pawn Co., Ltd. and Romdoul Development Co., Ltd., are registered in Cambodia and are designated for being owned or controlled by Phara.

20. Goran Andric: Andric was designated on December 9, 2019, for acting or purporting to act for or on behalf of, directly or indirectly, Slobodan Tesic. Andric is one of Tesic's closest associates and has represented Tesic in various international sales, including conducting contract negotiations on Tesic's behalf while Tesic was on the United Nations travel ban list and unable to travel. In working for Tesic, Andric was involved in facilitating arms deals, including an occasion when Andric signed a contract on behalf of the designated entity, Partizan Tech.

In a related action, one entity, Serbia-based Velcom Trade D.O.O. Beograd was designated on December 9, 2019, for being owned or controlled by Andric.

21. Esad Kapidzic: Kapidzic was designated on December 9, 2019, for acting or purporting to act for or on behalf of, directly or indirectly, Tesic. Kapidzic is a director and secretary of Cyprus-based Finrost Limited, as well as a director and representative of Serbia-based Falcon Strategic Solutions D.O.O., two entities concurrently designated for being owned or controlled by, or for acting or purporting to act for or on behalf of, directly or indirectly, Tesic. Finrost Limited received and moved money on behalf of Tesic, and was used by Tesic for a weapons contract with a foreign government in Africa.

Additionally, Falcon Strategic Solutions D.O.O. was established by Tesic immediately following his December 21, 2017 designation to avoid sanctions.

22. Nebojsa Sarenac: Sarenac was designated on December 9, 2019, for acting or purporting to act for or on behalf of, directly or indirectly, Tesic. Sarenac is a managing director of designated entities, Technoglobal and Partizan Tech. Additionally, Sarenac is Tesic's nephew and one of his closest associates.

Additionally, one entity, Melvale Corporation D.O.O. Beograd, which is based in Serbia, was designated on December 9, 2019, for being owned or controlled by Sarenac who is the owner and representative.

23. Zoran Petrovic: Petrovic was designated on December 9, 2019, for acting or purporting to act for or on behalf of, directly or indirectly, Tesic. Petrovic is a managing director and principal of Partizan Tech, an entity designated in December 2017. Petrovic has negotiated with foreign entities on Tesic's behalf.

24. Nikola Brkic: Brkic was designated on December 9, 2019, for acting or purporting to act for or on behalf of, directly or indirectly, Tesic. Brkic is a principal and legal representative of Partizan Tech.

25. Milan Subotic: Subotic was designated on December 9, 2019, for acting or purporting to act for or on behalf of, directly or indirectly, Tesic. Subotic is the owner, managing director, and representative of Serbia-based Vectura Trans DOO, an entity concurrently designated for being owned or controlled by, or for acting or purporting to act for or on behalf of, directly or indirectly, Tesic. Tesic utilized Vectura Trans to receive an approved license for exports, to complete arms deals, and to finalize weapons contracts with a foreign government. Subotic was also listed as the point of contact for export permits related to designated entity Partizan Tech.

26. Zelimir Petrovic: Petrovic was designated on December 9, 2019, for acting or purporting to act for or on behalf of, directly or indirectly, Tesic. Petrovic is the owner, managing director, and representative of Serbia-based Araneks DOO, an entity concurrently designated for being owned or controlled by, or for acting or purporting to act for or on behalf of, directly or indirectly, Tesic. Araneks was used by Tesic to finalize weapons contracts with a foreign government in Africa, and in dealings with another foreign government.

27. Sreten Cvjetkovic: Cvjetkovic was designated on December 9, 2019, for acting or purporting to act for or on behalf of, directly or indirectly, Tesic. Cvjetkovic is a 50 percent owner and legal representative of Falcon Strategic Solutions D.O.O.

28. Ljobo Maricic: Maricic was designated on December 9, 2019, for acting or purporting to act for or on behalf of, directly or indirectly, Tesic. Maricic is the director of Technoglobal and a former representative of Partizan Arms, the predecessor to Tesic's Partizan Tech.

29. Moonstorm Enterprises LTD: Cyprus-based Moonstorm Enterprises LTD was designated on December 9, 2019, for being owned or controlled by, or acting or purporting to act for or on behalf of, directly or indirectly, Slobodan Tesic, a person designated pursuant E.O. 13818.

30. Tardigrade Limited: Tardigrade was designated on December 9, 2019, for being owned or controlled by, or acting or purporting to act for or on behalf of, directly or indirectly, Slobodan Tesic, a person designated pursuant E.O. 13818. Tesic used Cyprus-based Tardigrade to conduct business in third party countries, particularly Arab and African countries. Tesic has also used his Serbian companies to sign contracts with Tardigrade before selling the goods to a final buyer.

31. Business Diversity Limited: Business Diversity Limited was designated on December 9, 2019, for being owned or controlled by, or acting or purporting to act for or on behalf of, directly or indirectly, Slobodan Tesic, a person designated pursuant E.O. 13818. Tesic established Hong Kong-based Business Diversity Limited in order to conduct business with a European country. Tesic has used Business Diversity Limited in Euro denominated contracts to evade U.S. sanctions.

32. Min Aung Hlaing: Min Aung Hlaing was designated on December 10, 2019, for his role as the Commander-in-Chief of the Burmese security forces, an entity that has engaged in or whose members have engaged in serious human rights abuse under his command. Min Aung Hlaing's military forces were responsible for the brutal security operation that began in August 2017 in Rahkine State and ultimately caused more than 500,000 people to flee to Bangladesh. During this time, members of ethnic minority groups were killed or injured by gunshot, often while fleeing, or by soldiers using large-bladed weapons; others were burned to death in their own houses. There are credible claims of mass-scale rape and other forms of sexual violence committed by soldiers under Min Aung Hlaing's command.

33. Soe Win: Soe Win was designated on December 10, 2019, for his role as the Deputy Commander-in-Chief of the Burmese military forces, an entity that has engaged in or whose members have engaged in serious human rights abuse during his tenure. Soe Win has been heavily involved in directing major operations that occurred in 2017, including the decision to deploy combat divisions to Rakhine State and other regions where serious human rights abuses occurred. Burmese military units responsible for some of the most serious violence, including many instances of sexual violence, reported directly to Soe Win.

34. Than Oo: Than Oo was designated on December 10, 2019, for being a leader of the 99th Light Infantry Division (LID), an entity that has engaged in or whose members have engaged in serious human rights abuse under his command. In 2017, the 99th LID deployed to Rakhine State and, while there, participated in serious human rights abuses alongside the 33rd LID and other security forces. In one operation in Tula Toli, hundreds of men, women, and children were reportedly forced to the nearby riverbank where the 99th LID opened fire, executing many of the men, and forced women and girls to nearby houses where they were sexually assaulted. A number of these women and children were later stabbed and beaten, with the houses set fire while they were inside. The 99th LID was designated pursuant to E.O. 13818 on August 17, 2018, for engaging in serious human rights abuse.

35. Aung Aung: Aung Aung was designated on December 10, 2019, for being a leader of the 33rd LID, an entity that has engaged in or whose members have engaged in serious human rights abuse under his command. The 33rd LID participated in abuses in Rakhine State, including the August 27, 2017 operation in Chut Pyin village. This operation included extrajudicial killings, forced disappearances, and sexual violence, as well as firing on fleeing villagers. More than 100 people were reportedly killed in this one operation alone. The 33rd LID was designated pursuant to E.O. 13818 on August 17, 2018 for engaging in serious human rights abuse.

36. Rao Anwar Khan: Anwar was designated on December 10, 2019, for being a foreign person who is responsible for or complicit in, or having directly or indirectly engaged in serious human rights abuse. During his tenure as the Senior Superintendent of Police in District Malir, Pakistan, Rao Anwar was reportedly responsible for staging numerous fake police encounters in which individuals were killed by police, and was involved in over 190 police encounters that resulted in the deaths of over 400 people, including the brutal murder of Naqeebullah Mehsood. Anwar helped lead a network of police and criminal thugs that were allegedly responsible for extortion, land grabbing, narcotics, and murder.

37. Mahmud al-Warfalli: Al-Warfalli was designated on December 10, 2019, for being a foreign person who is responsible for or complicit in, or having directly or indirectly engaged in, serious human rights abuse. Al-Warfalli served as commander of a militia known as the al-Saiqa Brigade. Since 2016, al-Warfalli has carried out or ordered the killings of 43 unarmed detainees in eight separate incidents. Many of these killings were filmed and published on social media. On January 24, 2018, al-Warfalli was filmed carrying out a mass execution of ten unarmed detainees in Benghazi. After al-Warfalli shot each detainee in the head one by one, al-Warfalli fired freely at the group of ten executed detainees. On July 17, 2017, al-Warfalli ordered the methodical killings of 20 kneeling and unarmed detainees. In several of the incidents, al-Warfalli continued to shoot at the detainees after they were executed.

38. Marian Kocner: Kocner was designated on December 10, 2019, for being a foreign person responsible for or complicit in, or having directly or indirectly engaged in, serious human rights abuse. Kocner threatened Jan Kuciak, a reporter who was investigating Kocner's corrupt dealings. Kuciak's investigative journalism focused on Kocner's ability, through a complicated series of financial transactions, to earn millions of Euros through fraudulent tax returns from Slovakia. Kuciak was also responsible for several exposés on Kocner's corrupt dealings, highlighting Kocner's connections to the police and prosecutors. Kocner also hired former Slovak Intelligence Service members to surveil Kuciak ahead of his eventual murder. Slovak authorities charged Kocner with hiring a hitman who murdered Kuciak and his fiancée, Martina Kusnirova.

Additionally, six entities were designated on December 10, 2019 for being owned or controlled by Kocner: Hotel Holding, S.R.O.; International Investment Development Holding A.S.; International Investment Hotels Holding A.S.; Sprava A Inkaso Pohladavok, S.R.O.; Sprava A Inkaso Zmeniek, S.R.O.; and Tranz-Tel, A.S.

39. Musa Baluku: Baluku was designated on December 10, 2019, for being a foreign person who is the leader of the Allied Defense Forces (ADF), an entity that has engaged in, or whose members have engaged in, serious human rights abuse.

40. Amigo Kibirige: Kibirige was designated on December 10, 2019, for materially assisting, sponsoring, or providing financial, material, or technological support for, or goods and services to or in support of, the ADF, an entity that has engaged in, or whose members have engaged in, serious human rights abuse.

41. Muhammed Lumisa: Lumisa was designated on December 10, 2019, for materially assisting, sponsoring, or providing financial, material, or technological support for, or goods and services to or in support of, the ADF, an entity that has engaged in, or whose members have engaged in, serious human rights abuse.

42. Elias Segujja: Segujja was designated on December 10, 2019, for materially assisting, sponsoring, or providing financial, material, or technological support for, or goods and services to or in support of, the ADF, an entity that has engaged in, or whose members have engaged in, serious human rights abuse.

43. Kayiira Muhammad: Muhammad was designated on December 10, 2019, for materially assisting, sponsoring, or providing financial, material, or technological support for, or goods and services to or in support of, the ADF, an entity that has engaged in, or whose members have engaged in, serious human rights abuse.

44. Amisi Kasadha: Kasadha was designated on December 10, 2019, for materially assisting, sponsoring, or providing financial, material, or technological support for, or goods and services to or in support of, the ADF, an entity that has engaged in, or whose members have engaged in, serious human rights abuse.

45. Abud Stephen Thiongkol: Thiongkol was designated on December 10, 2019, for being a foreign person that is or has been the leader of an entity that has engaged in, serious human rights abuse. Thiongkol has been identified as the commander of the detention facilities where Aggrey Idri (Aggrey), a member of the Sudan People's Liberation Movement—In Opposition (SPLM-IO), and Dong Samuel Luak (Dong), a South Sudanese human rights lawyer, were held prior to their killings.

46. Malual Dhal Muorwel: Muorwel was designated on December 10, 2019, for being a foreign person that is responsible for or complicit in, or has directly or indirectly engaged in, serious human rights abuse. In addition to Muorwel's participation in the killings of Dong and Aggrey, he has been identified as being the commander of forces who detained and assaulted three international monitors in December of 2018.

47. Michael Kuajien: Kuajien was designated on December 10, 2019, for being a foreign person that is responsible for or complicit in, or has directly or indirectly engaged in, serious human rights abuse. Kuajien is one of two people publicly identified as being present in Kenya during, and in having a hand in, the kidnapping of Dong and Aggrey.

48. John Top Lam: Lam was designated on December 10, 2019, for being a foreign person that is responsible for or complicit in, or has directly or indirectly engaged in, serious human rights abuse. Lam is one of two people publicly identified as being present in Kenya during, and in having a hand in, the kidnapping of Dong and Aggrey. Further, Lam is reported to have called a member of Dong's family in order to provide information on Dong's whereabouts in return for a substantial cash payment.

49. Angelo Kuot Garang: Garang was designated on December 10, 2019, for being a foreign person that is responsible for or complicit in, or has directly or indirectly engaged in, serious human rights abuse. Garang has been identified as being involved in the killing of Dong and Aggrey, as well as of other individuals.

Visa Restrictions Imposed

Although no visa restrictions were imposed under the Act during 2019, persons designated pursuant to E.O. 13818 shall be subject to the visa restrictions articulated in section 2, unless an exception applies. Section 2 provides that the entry of persons designated under section 1 of the order is suspended pursuant to Presidential Proclamation 8693. In 2019, the State Department also applied, when appropriate, visa restrictions on foreign persons involved in significant corruption or gross violation of human rights under other authorities, reported to Congress through other means. As appropriate, the Department of State will take additional action to impose visa restrictions on those responsible for certain human rights violations and corruption pursuant to other authorities, including Presidential Proclamations 7750 and 8697, and Section 7031(c) of the FY2019 Department of State, Foreign Operations, and Related Programs, as carried forward by the FY2020 Continuing Appropriations Act, 2020. In addition, section 212(a)(3)(E) of the Immigration and Nationality Act renders aliens ineligible for visas if a consular officer has reason to believe that they participated in acts of genocide, torture or extrajudicial killings.

Efforts To Encourage Governments of Other Countries To Impose Sanctions Similar to Those Authorized by the Act

In 2019, the Administration continued to build on the successful outreach campaign to international partners regarding the expansion of domestic and multilateral anticorruption and human rights sanctions regimes. Following successful outreach in 2018, the United Kingdom and the European Union are progressing in the development of their own human rights sanction's authorities. Canada enacted its authority in October 2017 and since that time, the Administration has worked closely with the Canadian government in pursuing coordinated actions against human rights abusers and corrupt actors. The Administration sought out new partners with which to create truly global authorities to promote accountability for those that abuse human rights and engage in corruption. Throughout this outreach, the Administration has identified champions, partners, and potential spoilers of the objectives established by Congress within the Act. The Departments of State and Treasury have, over the last year, shared information, coordinated messaging, and provided technical assistance to this end.

David Hale,
Under Secretary for Political Affairs, United States Department of State.

[FR Doc. 2019-28231 Filed 12-30-19; 8:45 am]

BILLING CODE 4710-AE-P